Title 3—

The President

Memorandum of August 6, 2009

Assignment of Function Under Section 601 of the American Recovery and Reinvestment Act of 2009

Memorandum for the Secretary of Homeland Security

By virtue of the authority vested in me as President by the Constitution and the laws of the United States, including section 301 of title 3, United States Code, I hereby assign to you the function of the President under section 601, title VI, Division A of the American Recovery and Reinvestment Act of 2009 (Public Law 111-5).

You are authorized and directed to publish this memorandum in the Federal Register.

THE WHITE HOUSE,

Washington, August 6, 2009

[FR Doc. E9-19281

Filed 8-7-09; 11:15 am]

Billing code 4410-10-P